DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[01/29/2019 through 02/18/2019]
Firm name | Firm address | Date accepted for investigation | Product(s)
MTI Precision Products, LLC d/b/a MTI Dental Products | 131 Birch Street, Coatesville, PA 19320 | 2/8/2019 | The firm manufactures dental handpieces and related attachments for drilling and polishing teeth.
Snow Country Hardwoods, Inc | 1300 Odanah Road, Hurley, WI 54534 | 2/8/2019 | The firm manufactures wood flooring, paneling, moldings, and other wood products from a wide range of tree species.
Buckeye Fabric Finishers, Inc. d/b/a Buckeye Fabric Finishing Company | 1260 East Main Street, Coshocton, OH 43812 | 2/11/2019 | The firm applies coatings to a wide range of textiles, including wax, resin, vinyl, acrylic, and other custom coatings.
Banneker Industries, Inc | 582 Great Road, Suite 101, North Smithfield, RI 02896 | 2/12/2019 | The firm provides supply chain management and integrated logistics services for large manufacturers and service firms.
FormPak, Inc | 355 Paul Avenue, Ferguson, MO 63135 | 2/13/2019 | The firm manufactures dry material handling and packaging systems, including equipment for filling and unloading sacks of dry materials.
Custom Storefronts, Inc | 1490 West Ironwood Street, Olathe, KS 66061 | 2/14/2019 | The firm designs and manufactures custom windows and doors of metal and wood.
Miller EPS, LLC | 613 West 3rd Street, Mountain Grove, MO 65711 | 2/14/2019 | The firm manufactures plastic plumbing fixtures.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2019-03192 Filed 2-22-19; 8:45 am]

BILLING CODE 3510-WH-P